EXECUTIVE OFFICE OF THE PRESIDENT

Submission for OMB Review; Comment Request

AGENCY: Office of National Drug Control Policy.

SUMMARY: The National Youth Anti-Drug Media Campaign invites comments on the submission for OMB review as required by the Paperwork Reduction Act of 1995.

DATES: Interested persons are invited to submit comments on or before July 15, 2002.

ADDRESSES: Written comments should be addressed to the Office of National Drug Control Policy, Attention: Gem Benoza, New Executive Office Building, Washington, DC 20503 or should be electronically mailed to Gbenoza@ondcp.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Regulatory Information Management Group, Office of the Chief Information Officer, publishes that notice containing proposed information collection requests prior to submission of these requests to OMB. Each proposed information collection, grouped by office, contains the following: (1) Type of review requested, e.g. new, revision, extension, existing or reinstatement; (2) title; (3) summary of the collection; (4) description of the need for, and proposed use of, the information; (5) respondents and frequency of collection; and (6) reporting and/or recordkeeping burden. OMB invites public comment.

Type of Review: New.

Title: Customer Satisfaction Survey of Community Coalitions with Community Drug Prevention Public Service Advertising Campaign.

Frequency: Two times in one year.

Affected Public: Community Anti-Drug Coalitions.

Reporting and Recordkeeping Hour Burden: None.

Responses: Estimate 520.

Burden Hours: 52 hours.

Abstract: ONDCP and the Advertising Council will use the information to ascertain whether the PSA campaign and related activities increase participation in local coalitions and to identify changes that could improve ONDCP's service to its member coalitions. Such information might reveal that certain sectors of the community (i.e., faith groups, businesses, etc.) are under-targeted, and thus guide ONDCP to re-focus outreach efforts. All information will be distributed internally only.

Dated: June 7, 2002.
Alan Levitt,
Director, National Youth Anti-Drug Media Campaign.

[FR Doc. 02-14897 Filed 6-12-02; 8:45 am]

BILLING CODE 3180-02-P